DEPARTMENT OF EDUCATION

[Docket No. ED-2022-SCC-0057]

Agency Information Collection Activities; Submission to the Office of Management and Budget for Review and Approval; Comment Request; Charter School Community Impact Analysis and Management Contracts

AGENCY: Office of Elementary and Secondary Education (OESE), Department of Education (ED).

ACTION: Notice.

SUMMARY: In accordance with the Paperwork Reduction Act of 1995, ED is proposing a new information collection.

DATES: Interested persons are invited to submit comments on or before May 23, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Ashley Gardner, 202-453-6787.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Charter School Community Impact Analysis and Management Contracts.

OMB Control Number: 1810-NEW.

Type of Review: A new information collection.

Respondents/Affected Public: State, Local, and Tribal Governments.

Total Estimated Number of Annual Responses: 365.

Total Estimated Number of Annual Burden Hours: 21,900.

Abstract: On March 14, 2022, The Department published in the Federal Register a Notice of Proposed Priorities, Requirements, Definitions, and Selection Criteria for the Charter School Programs' State Entities program, Charter School Management Organizations program, and Developer program (Vol. 87, No. 49, pages 14197-14210). Specifically, the Department proposed two new priorities and accompanying application requirements, definitions, and selection criteria for applicants proposing to create results-driven policies to help promote positive student outcomes, student and staff diversity, educator and community empowerment, promising practices, and accountability, including fiscal transparency and responsibility, in charter schools supported with CSP funds, which can serve as models for other charter schools. The Charter School Programs Office of the Department is requesting a new information collection through a community impact analysis and around contracts with for profit charter education organizations due to this rulemaking for the CSP program authorized under Title VI, Part C, Subpart 1, of the Elementary and Secondary Education Act, as amended by ESSA. The CSP Grants (CFDA 84.282 including SE 84.282A, CMO 84.282M, and Developer (84.282B and E)) program is a competitive discretionary grant program. The grant applications submitted for this program are evaluated based on how well an applicant addresses the selection criteria and are used to determine applicant eligibility and amount of award for projects selected for funding.

Dated: April 19, 2022.
Kun Mullan,
PRA Coordinator, Strategic Collections and Clearance, Governance and Strategy Division, Office of Chief Data Officer, Office of Planning, Evaluation and Policy Development.

[FR Doc. 2022-08627 Filed 4-21-22; 8:45 am]

BILLING CODE 4000-01-P